DEPARTMENT OF HOMELAND SECURITY

U.S. Immigration and Customs Enforcement

[OMB Control Number 1653-NEW]

Agency Information Collection Activities: 287(g) Needs Assessment; New Collection

AGENCY: U.S. Immigration and Customs Enforcement, Department of Homeland Security.

ACTION: 60-Day notice.

SUMMARY: The Department of Homeland Security (DHS), U.S. Immigration and Customs Enforcement (ICE) will be submitting the following new information collection request to the Office of Management and Budget (OMB) for review and clearance in accordance with the Paperwork Reduction Act of 1995. The information collection is published in the Federal Register to obtain comments from the public and affected agencies.

DATES: Comments are encouraged and will be accepted for sixty days until November 17, 2017.

ADDRESSES: All submissions received must include the OMB Control Number 1653-NEW in the subject box and the agency name. To avoid duplicate submissions, please use only one of the following methods to submit comments:

(1) Email. Submit comments to forms.ice@ice.dhs.gov;

(2) Mail. Submit written comments to DHS, USICE, PRA Clearance Officer, 801 I Street NW., Washington, DC 20536-5800.

SUPPLEMENTARY INFORMATION: Written comments and suggestions from the public and affected agencies concerning the proposed collection of information should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: New information collection.

(2) Title of the Form/Collection: 287(g) Needs Assessment.

(3) Agency form number, if any, and the applicable component of the Department of Homeland Security sponsoring the collection: U.S. Immigration and Customs Enforcement.

(4) Affected public who will be asked or required to respond, as well as a brief abstract: Primary: State or Local governments. This questionnaire is used for the purposes of allowing ICE to evaluate a state or local law enforcement agency that has expressed interest in partnering with ICE under Section 287(g) of the Immigration and Nationality Act so that its officers may be delegated the authority to perform the functions of an immigration officer under a signed memorandum of agreement. The prospective law enforcement agency provides this information to ICE as part of ICE's process to evaluate the agency's suitability to partner with ICE.

(5) An estimate of the total number of respondents and the amount of time estimated for an average respondent to respond: 50 responses at 60 minutes (1 hour) per response.

(6) An estimate of the total public burden (in hours) associated with the collection: 50 annual burden hours.

Dated: September 13, 2017.
Scott Elmore,
PRA Clearance Officer, Office of the Chief Information Officer, U.S. Immigration and Customs Enforcement, Department of Homeland Security.

[FR Doc. 2017-19736 Filed 9-15-17; 8:45 am]

BILLING CODE 9111-28-P